DEPARTMENT OF COMMERCE

National Oceanic and Atmospheric Administration

50 CFR Part 660

[I.D. 052201D]

Western Pacific Fishery Management Council; Public Meetings

AGENCY: National Marine Fisheries Service (NMFS), National Oceanic and Atmospheric Administration (NOAA), Commerce.

ACTION: Notice of public meetings/public hearings.

SUMMARY: The Western Pacific Fishery Management Council (Council) Advisory Panels will meet on June 15 and 16, 2001; the Standing Committees will meet on June 18, 2001; and the Council will hold its 110th meeting June 18 through June 21, 2001, in Honolulu, HI.

At the full Council meeting, a public hearing will be held prior to the Council taking final action on its Coral Reef Ecosystem Fishery Management Plan/Draft Environmental Impact Statement (CREFMP/DEIS).

The Council will also be holding a public hearing to accept comments on a proposed action that would implement the prohibitions specified in the Shark Finning Prohibition Act, that was signed by the President in December 2000.

DATES: The meetings and the hearings will be held during June 2001. See SUPPLEMENTARY INFORMATION for specific dates, and times for the meetings and the hearings.

ADDRESSES: The meetings and the hearings will be held at the Ala Moana Hotel, 410 Atkinson Drive, Honolulu, HI 96813; telephone: 808-955-4811.

FOR FURTHER INFORMATION CONTACT: Kitty M. Simonds, Executive Director; telephone: 808-522-8220.

SUPPLEMENTARY INFORMATION:

Dates and Locations

Advisory Panels

The Commercial, Recreational, Subsistence/Indigenous, and Ecosystem and Habitat sub-panels will meet jointly on Friday, June 15, 2001, from 8:30 a.m. to 5 p.m. Sub-panels will meet individually on Saturday, June 16, 2001, but will reconvene jointly before the end of the day to finalize recommendations. In addition, the Panels will hear reports from plan teams, the scientific and statistical committee, and other ad hoc groups. Public comment periods will be provided throughout the meetings. The order in which agenda items are addressed may change. The Advisory Panels will meet as late as necessary to complete scheduled business.

The agenda for the Advisory Panel meetings will include the items listed below:

1. Welcome and introductions

2. Overview of the Magnuson-Stevens Fishery Conservation and Management Act (Magnuson-Stevens Act), Council program, and decision-making process, and other applicable laws

3. Role of advisors

4. Report on island area Advisory Group meetings

5. Fisheries data collection and monitoring programs, including the Western Pacific Fisheries Information Network (WesPacFIN) and the Marine Recreational Fishery Survey

6. Research priorities and needs

7. Coral reef management

8. Protected species issues, including turtles, seabirds and marine mammals

9. Enforcement and safety issues

10. American Samoa longline fishery issues

11. Indigenous initiatives, including the Community Development Program, Community Demonstration Projects, cultural take of green sea turtles, and the native Observer program

12. Education and outreach efforts

13. Presentation on fish aggregation devices

14. Sub-panel break-out sessions to discuss issues and develop recommendations

15. Joint panel session to review and finalize recommendations to the Council

Public Hearings

A public hearing will be held at 6 p.m. on June 20, 2001, on upcoming actions with respect to shark finning.

A public hearing will be held at 9:30 a.m. on June 21, 2001, on the CREFMP/DEIS.

Committee Meetings

The following Standing Committees of the Council will meet on June 18, 2001. Enforcement/Vessel Monitoring System (VMS) from 8 a.m. to 10 a.m.; Fishery Rights of Indigenous People from 9 a.m. to 10 a.m.; International Fisheries/Pelagics from 10 a.m. to 12 noon; Precious Corals from 1:30 p.m. to 3 p.m.; Crustaceans from 1:30 p.m. to 3 p.m.; Bottomfish from 3 p.m. to 4:30 p.m; Ecosystem and Habitat from 3 p.m. to 4:30 p.m.; and Executive/Budget and Program from 4:30 p.m. to 6 p.m.

In addition, the Council will hear recommendations from its advisory panels, plan teams, scientific and statistical committee, and other ad hoc groups. Public comment periods will be provided throughout the agenda. The order in which agenda items are addressed may change. The Council will meet as late as necessary to complete scheduled business.

The agenda during the full Council meeting will include the items listed below:

1. Introductions

2. Approval of agenda

3. Approval of 108th and 109th Meeting Minutes

4. Island Reports

A. American Samoa

B. Guam

C. Hawaii

D. Commonwealth of the Northern Mariana Islands

5. Federal Fishery Agency and Organization Reports

A. Department of Commerce

(1) NMFS

(a) Southwest Region, Pacific Islands Area Office

(b) Southwest Fisheries Science Center, La Jolla and Honolulu Laboratories

(2) NOAA General Counsel, Southwest Region

B. Department of the Interior/U.S. Fish and Wildlife Service

C. U.S. State Department

6. Enforcement

A. U.S. Coast Guard activities

B. NMFS activities

C. Commonwealth, Territories, and State activities

D. Archipelago Marine Research Ltd. - digital monitoring

E. Digital Observer project

F. Report on Enforcement meeting

G. Status of Violations

7. VMS

A. NMFS status of VMS report

B. USCG request to use VMS for targeting boardings

C. Report on VMS issues from the Enforcement meeting

8. Hawaiian Monk Seals

A. Current population trends and factors affecting monk seal populations

B. Recommendations of the Hawaiian Monk Seal Recovery Team

C. Bottomfish/monk seal mitigation measures

9. Precious Corals

A. Status of 1999 framework amendment regarding new harvesting requirements

B. Status of 2000 framework adjustment regarding Hawaiian Islands exploratory area quota increase

C. Precious Coral DEIS

10. Bottomfish Fisheries

A. Summary of the draft 2000 Bottomfish Annual Report modules

B. Status of the fishery: litigation, biological opinion (BO), Observers

C. Status of DEIS

D. Permit transfer to replacement vessel in the Northwest Hawaiian Islands bottomfish fishery

11. Crustacean Fisheries

A. NMFS plans for proposed charter cruises and model workshop

12. Pelagic Fisheries

A. Fourth quarter 2000 Hawaii and American Samoa longline fishery report

B. American Samoa limited entry

C. Turtle conservation and management

(1) Emergency rule for Hawaii longline fishery, including discussion of the BO, the final environmental impact statement, and the March 30, 2001, Court order modifying the injunction issued pursuant to Center for Marine Conservation v. NMFS.

(2) Council Turtle Conservation Plan

(3) Turtle research, including NMFS fishing experiment, other research, and turtle dive patterns

(4) Endangered Species Act recommendations from the Chairmen’s meeting

D. Seabird conservation and management

E. Preparatory Conference for the establishment of the Western and Central Pacific Fisheries Commission

13. Shark finning

A. Public hearing on shark finning action

In December 2000, Congress enacted and the President signed the “Shark Finning Prohibition Act” (Public Law 106-557). The Act amended the Magnuson-Stevens Act to prohibit any person subject to U.S. jurisdiction from (a) engaging in shark-finning (shark-finning means the taking of a shark, removing the fin or fins (whether or not including the tail) of a shark, and returning the remainder of the shark to the sea); (b) possessing shark fins aboard a fishing vessel without the corresponding carcass; and (c) landing shark fins without the corresponding carcass. The rule that is being proposed by NMFS to implement the prohibitions specified in the Act applies to U.S. and foreign fishing vessels and associated businesses that engage in finning or in the buying and selling of fins or providing goods and services to vessels engaged in finning.

14. Ecosystems and Habitat

A. Public and agency comments on CREFMP/DEIS including Rose Atoll, Palmyra, overfishing/maximum sustainable yield (MSY), permits, and other issues

B. Other issues, including status of Northwestern Hawaiian Island Coral Reef Reserve and Advisory Council, and status of request for fisheries disaster relief

C. Public hearing on CREFMP/DEIS

The DEIS was prepared to examine the impacts of implementing the proposed CREFMP. The DEIS also addresses potential problems due to human interactions with coral reefs in the Western Pacific exclusive economic zone (EEZ). Although local regulations control many of the impacts of harvesting nearshore coral reef resources in settled areas, exploitation of the coral reef ecosystem remains relatively uncontrolled in Federal waters of the EEZ. Although these areas have been minimally exploited to date, industry has expressed an interest in expanding fisheries in these areas. In addition, the DEIS was prepared to provide for better understanding of impacts due to natural environmental changes, other FMP-managed fisheries, and non-fishing related impacts such as dredging. To address these problems, four alternatives were examined: (1) No action or status quo; (2) minimal additional protection for coral reef resources; (3) substantial additional protection to coral reef resources (preferred alternative); and (4) maximum additional protection for coral reef resources. The environmental effects of each of the alternatives, management measures, components, and options have been analyzed in the DEIS. In June 2000, the Council adopted a preferred alternative and management options. Management measures proposed in the FMP represent a combination of choices made by the Council based on a comparison of alternatives.

Alternatives were a product of numerous public meetings and meetings of the Council’s various advisory bodies. The proposed management measures include: (a) Ddesignating marine protected areas (MPAs), including no-take marine reserves and areas zoned for specific fishing activities allowed only with a special permit; (b) establishing fishing permit and reporting requirements for fishing for coral reef resources in the EEZ; (c) specifying the use of selective, non-destructive gears and methods for harvesting management-unit species; and (d) establishing a framework process to allow for future regulatory adjustments to the coral reef ecosystem management program. In addition, the Council recommends that a formal procedure be established for assessing and controlling ecosystem effects of reef-related fisheries managed under the Fishery Management Plan for the Bottomfish and Seamount Groundfish Fisheries of the Western Pacific Region, the Fishery Management Plan for the Crustacean Fisheries of the Western Pacific Region, and the Fishery Management Plan for the Precious Corals Fisheries of the Western Pacific Region.

15. Fishery Rights of Indigenous People

A. Status of Community Demonstration Projects and Community Development Program

B. Native observer program for Western Pacific fisheries

C. Western Pacific sea turtle conservation plan

D. Status of Marine Conservation Plans

16. Program Planning

A. Report on annual Regional Chairmen and Executive Directors meeting

B. Status of Congressional legislation (Magnuson-Stevens Act and ESA)

C. Report on program planning activities

D. NMFS overfishing/MSY workshop

E. Digital video monitoring policy

F. Education initiatives

G. WesPacFIN/Fisheries Data Coordinating Committee

17. Administrative Matters

A. Administrative reports

B. Upcoming meetings and workshops, including the 111th Council meeting

C. Advisory group member changes

Other Business

Although non-emergency issues not contained in this agenda may come before the Council for discussion, those issues may not be the subject of formal Council action during this meeting. Council action will be restricted to those issues specifically listed in this document and any issue arising after publication of this document that requires emergency action under section 305(c) of the Magnuson-Stevens Act, provided the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to the meeting date.

Authority: 16 U.S.C. 1801 et seq.

Dated: June 6, 2001.
Richard W. Surdi,
Acting Director, Office of Sustainable Fisheries, National Marine Fisheries Service.

[FR Doc. 01-14623 Filed 6-6-01; 3:14 pm]

BILLING CODE 3510-22-S